DEPARTMENT OF ENERGY

Federal Energy Regulatory Commission

[Docket No. ER98-2770-006 (Consolidated with Docket Nos. EC98-40-000 and ER98-2786-000)]

American Electric Power Service Corporation Central and South West Services, Inc.; Notice of Filing

May 24, 2000.

Take notice that on May 22, 2000, American Electric Power Service Corporation, on behalf of the operating companies of the American Electric Power System, and Central and South West Services, Inc., on behalf of the operating companies of Central and South West Corporation, submitted a compliance filing containing substitute versions of the System Integration Agreement, the System Transmission Integration Agreement, and the Transmission Reassignment Tariff accepted for filing by the Commission in Docket No. ER98-2770-000.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before June 12, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-14125 Filed 6-5-00; 8:45 am]

BILLING CODE 6717-01-M